FEDERAL COMMUNICATIONS COMMISSION

Open Commission Meeting, Tuesday, January 31, 2017

January 24, 2017.

The Federal Communications Commission will hold an Open Meeting on the subjects listed below on Tuesday, January 31, 2017 which is scheduled to commence at 10:30 a.m. in Room TW-C305, at 445 12th Street SW., Washington, DC.

Item No. | Bureau | Subject
1 | Media | Title: Revisions to Public Inspection File Requirements—Broadcaster Correspondence File and Cable Principal Headend Location (MB Docket No. 16-161).
|  | Summary: The Commission will consider a Report and Order that would eliminate the requirement that commercial broadcast stations retain copies of letters and emails from the public in their public inspection file and the requirement that cable operators retain the location of the cable system's principal headend in their public inspection file.

* * * * *

Consent Agenda

The Commission will consider the following subjects listed below as a consent agenda and these items will not be presented individually:

1 | General Counsel | Title: In the Matter of William L. Zawila (EB Docket No. 03-152).
|  | Summary: The Commission will consider a memorandum opinion and order concerning an appeal by William L. Zawila of a memorandum opinion and order by Chief Administrative Law Judge Richard L. Sippel dismissing two parties from a hearing proceeding.
2 | General Counsel | Title: In the Matter of Thomas O. Caldwell on Request for Inspection of Records (FOIA Control No. 2016-000568).
|  | Summary: The Commission will consider a memorandum opinion and order concerning an application for review filed by Thomas O. Caldwell, which appeals a FOIA decision by the Enforcement Bureau.
3 | Media | Title: Kingdom of God, Inc., DWKOG-LP, Indianapolis, IN.
|  | Summary: The Commission will consider an Order on Reconsideration concerning the dismissal of the licensee's Application for Review seeking reinstatement of the station's license.
4 | Media | Title: Television Capital Corporation of Portland, Application For a New Commercial Television Station at Portland, Oregon.
|  | Summary: The Commission will consider a Memorandum Opinion and Order concerning the dismissal of the applicant's application for a new analog television station at Portland, Oregon.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Katura Howard,
Federal Register Liaison Officer, Office of the Secretary.

[FR Doc. 2017-02122 Filed 1-31-17; 8:45 am]

BILLING CODE 6712-01-P